NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at title 45 part 671 of the Code of Federal Regulations. This is the required notice of permit applications received.

DATES: Interested parties are invited to submit written data, comments, or views with respect to this permit application by December 7, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 201X-0XX

1. Applicant: Name and Address

Activity for Which Permit Is Requested

A small expedition would use a reinforced ketch rigged sailing yacht to transit from Ushuaia, Chile, to the Antarctic Peninsula region and back. Activities to be conducted include: Passenger landings, hiking, photography, wildlife viewing, and possible station visits. Designated pollutants that would be generated during the trip include air emissions, waste water (urine, grey-water) and solid waste (food waste, human solid waste, and packaging materials). Human waste and grey water would be disposed of in offshore waters, complying with the provisions of Article 5 of Annex III and Article 6 of Annex IV of MARPOL Protocol and the Convention. All other wastes would be kept for proper disposal in Ushuaia at the end of the expedition. Seawater samples would be collected for studies on microplastics.

Location

Antarctic Peninsula region, including Deception Island, Foyn Harbor, Paradise Bay, Port Lockroy, Vernadsky, Hovgard Island, Hero Inlet/Anvers Island, and Melchior Islands.

Dates

January 16, 2015-February 6, 2016.

Nadene G. Kennedy,
Polar Coordination Specialist, Division of Polar Programs.

[FR Doc. 2015-28193 Filed 11-4-15; 8:45 am]

BILLING CODE 7555-01-P